DEPARTMENT OF THE INTERIOR

Fish and Wildlife Service

50 CFR Part 17

RIN 1018-AI15

Endangered and Threatened Wildlife and Plants; Listing Roswell Springsnail, Koster's Springsnail, Pecos Assiminea, and Noel's Amphipod as Endangered With Critical Habitat

AGENCY: Fish and Wildlife Service, Interior.

ACTION: Revised proposed rule; reopening of public comment period, notice of availability of draft economic analysis and draft environmental assessment, updated legal descriptions for critical habitat units.

SUMMARY: We, the U.S. Fish and Wildlife Service (Service), announce the availability of the draft economic analysis and draft environmental assessment for the proposal to designate critical habitat for the Roswell springsnail (Pyrgulopsis roswellensis), Koster's springsnail (Juturnia kosteri), Pecos assiminea (Assiminea pecos), and Noel's amphipod (Gammarus desperatus) (four invertebrates) under the Endangered Species Act of 1973, as amended (Act). We are also reopening the public comment period for the proposal to list the four invertebrates as endangered with critical habitat to allow all interested parties an opportunity to comment on and request changes to the proposed listing and critical habitat designation, as well as the associated draft economic analysis and draft environmental assessment. In addition, we are proposing updated legal descriptions for critical habitat units using Geographic Information Systems (GIS) coordinates. We invite all interested parties to submit comments on this proposal within the 30-day comment period.

DATES: Comments must be submitted directly to the Service (see ADDRESSES section) on or before June 3, 2005.

ADDRESSES: If you wish to comment, you may submit your comments and materials by any one of several methods:

1. You may submit written comments and information to the Susan MacMullin, Field Supervisor, New Mexico Ecological Services Field Office, 2105 Osuna Road NE, Albuquerque, New Mexico 87113.

2. You may hand-deliver written comments and information to our New Mexico Ecological Services Field Office, at the above address, or fax your comments to 505-346-2542.

3. You may send your comments by electronic mail (e-mail) to “R2FWE_AL@fws.gov.” For directions on how to submit electronic filing of comments, see the “Public Comments Solicited” section below.

You may obtain copies of the draft economic analysis and draft environmental assessment by mail by contacting the person listed under FOR FURTHER INFORMATION CONTACT. You may also view these documents in person, review comments and materials received, and review supporting documentation used in preparation of the proposed rule, by appointment, during normal business hours, at the New Mexico Ecological Services Field Office at the address provided above.

FOR FURTHER INFORMATION CONTACT: Susan MacMullin, Field Supervisor, New Mexico Ecological Services Field Office (telephone 505-761-2525, facsimile 505-346-2542).

SUPPLEMENTARY INFORMATION:

Public Comments Solicited

We intend any final action resulting from this proposal to be as accurate and as effective as possible. Therefore, we solicit comments or suggestions from the public, other concerned governmental agencies, the scientific community, industry, or any other interested party concerning this proposed rule. We particularly seek comments concerning:

(1) The reasons why any habitat should or should not be determined to be critical habitat as provided by section 4 of the Act, including whether the benefits of designation will outweigh any threats to the species resulting from designation;

(2) Specific information on the amount and distribution of the four invertebrates' habitat, and which habitat is essential to the conservation of the species and why;

(3) Land use designations and current or planned activities in the subject area and their possible impacts on the species or proposed critical habitat;

(4) Whether our approach to listing or critical habitat designation could be improved or modified in any way to provide for greater public participation and understanding, or to assist us in accommodating public concerns and comments;

(5) Any foreseeable economic, environmental, or other impacts resulting from the proposed designation of critical habitat or coextensively from the proposed listing, in particular, any impacts on small entities or families;

(6) Whether the economic analysis identifies all State and local costs. If not, what other costs are overlooked;

(7) Whether the economic analysis makes appropriate assumptions regarding current practices and likely regulatory changes imposed as a result of the listing of the species or the designation of critical habitat;

(8) Whether the economic analysis correctly assesses the effect on regional costs associated with land use controls that derive from the designation;

(9) Whether the designation will result in disproportionate economic impacts to specific areas that should be evaluated for possible exclusion from the final designation; and

(10) Whether the economic analysis appropriately identifies all costs that could result from the designation or coextensively from the listing.

Comments submitted during this comment period will be fully considered in the critical habitat determination, which will be made on or before August 1, 2005. To meet this date, all comments or proposed revisions to the draft economic analysis, draft environmental assessment, and proposed rule need to be submitted to us during the open comment period (see DATES).

Please submit electronic comments in ASCII file format and avoid the use of special characters or any form of encryption. Please also include “Attn: RIN 1018-AI15” in your e-mail subject header and your name and return address in the body of your message. If you do not receive a confirmation from the system that we have received your e-mail message, contact us directly by calling our New Mexico Ecological Services Field Office at (505) 346-2525.

Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety.

Background

On November 22, 1985, we received a petition from Mr. Harold F. Olson, Director of the New Mexico Department of Game and Fish, to add 11 species of New Mexican mollusks to the Federal list of endangered and threatened wildlife. Roswell springsnail (Pyrgulopsis roswellensis, formerly Fontelicella sp. (Hershler 1994)), Koster's springsnail (Juturnia kosteri, formerly Tryonia (Hershler et al. 2002)), and Pecos assiminea were among the 11 species. We determined the petition presented substantial information that the requested action may be warranted and published a positive 90-day petition finding in the Federal Register on August 20, 1986 (51 FR 29671). A subsequent 12-month finding published in the Federal Register on July 1, 1987 (52 FR 24485), concluded that the petitioned action was warranted but precluded by other higher priority listing actions. A proposed rule to list the three snails as endangered with critical habitat was published in the Federal Register on February 12, 2002 (67 FR 6459). The proposed rule also included Noel's amphipod, which had been a candidate for listing, because this invertebrate shares the same habitats, threats, and management needs as the three snails.

These species occur at sinkholes, springs, and associated spring runs and wetland habitats. They are found at Bitter Lake National Wildlife Refuge in Chaves County, New Mexico, one site in Pecos County, Texas, and one site in Reeves County, Texas.

In the proposed rule, we determined that these three snails and one amphipod have an exceedingly limited distribution and are imperiled by local and regional groundwater depletion, surface and groundwater contamination, oil and gas extraction activities within the supporting aquifer and watershed, and direct loss of their habitat (e.g., through burning or removing marsh vegetation, inundating, or filling of habitat).

If the proposed listing and critical habitat designation is finalized, section 7(a)(2) of the Act would require that Federal agencies ensure that actions they fund, authorize, or carry out are not likely to jeopardize the continued existence of the species or result in the destruction or adverse modification of critical habitat.

Section 4 of the Act requires that we consider economic and other relevant impacts prior to making a final decision on what areas to designate as critical habitat. We may revise the proposal, or its supporting documents, to incorporate or address new information received during the comment period. In particular, we may exclude an area from critical habitat if we determine that the benefits of excluding the area outweigh the benefits of including the area as critical habitat, provided such exclusion will not result in the extinction of the species. Bitter Lake National Wildlife Refuge (NWR) completed a Final Comprehensive Conservation Plan in September of 1998 that provides for protection and management of the four invertebrate species and sensitive natural habitats. We believe that there is minimal benefit from designating critical habitat for the four invertebrates within Bitter Lake NWR lands because these lands are already managed for the conservation of wildlife. We did not propose to exclude Bitter Lake NWR from the proposed critical habitat designation, but we anticipate excluding it from the final designation after further analysis and public comment.

The draft economic analysis estimates that the total post-designation costs could amount to between $6.4 million to $12.8 million over 20 years (or $3.4 to $6.8 million in present value terms and $170,000 to $339,000 annually from 2005 to 2025). Approximately 82 percent of these costs are associated with impacts to oil and gas activities on Bureau of Land Management lands within the Bitter Lake Habitat Protection Zone. Federal, State, and The Nature Conservancy management activities are expected to generate 14 percent of total forecast costs.

Corrected Coordinates for Proposed Units of Critical Habitat

Below we provide corrected legal descriptions for the four invertebrates' proposed critical habitat designation. The legal descriptions published on February 12, 2002 (67 FR 6459), as part of the proposed critical habitat designation, used a less accurate method of description and contained errors. In this revised proposed rule, we are proposing updated legal descriptions for critical habitat units using GIS coordinates, which is our current (and a more precise) method of identifying critical habitat units. The general unit locations of proposed critical habitat on the maps in the February 12, 2002, proposal remain correct, and we are not republishing them in this document. The proposed updated legal descriptions using GIS coordinates may be found in the rule portion of this document.

Name Change

Since the publication of the February 12, 2002, proposed rule, the common and scientific names of one of the snails proposed for listing as endangered with critical habitat have changed. The proposed rule specified this snail as Koster's tryonia (Tryonia kosteri). This snail is now identified as Koster's springsnail (Juturnia kosteri). This revised proposed rule incorporates the current common and scientific names of this snail into the proposed amendatory language. We are not, however, republishing the critical habitat unit maps in this proposed rule. If this proposal is adopted, the map of the critical habitat for Koster's springsnail will be revised to correct the common name in our final determination. To view the critical habitat unit maps, refer to the February 12, 2002, proposed rule (67 FR 6459).

Required Determinations

This revised proposed rule affirms the information contained in the February 12, 2002, proposed rule (67 FR 6459) concerning Executive Order 12866 and the Regulatory Flexibility Act; Executive Orders 13211, 12630, 13132, 12988, and 13175; the Unfunded Mandates Reform Act; the Paperwork Reduction Act; the National Environmental Policy Act; and the President's memorandum of April 29, 1994, “Government-to-Government Relations with Native American Tribal Governments” (59 FR 22951).

List of Subjects in 50 CFR Part 17

Endangered and threatened species, Exports, Imports, Reporting and recordkeeping requirements, Transportation.

Proposed Rule Promulgation

Accordingly, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

2. Amend § 17.11(h) as follows:

a. Add Pecos assiminea snail, Koster's springsnail, and Roswell springsnail in alphabetical order under “SNAILS'; and

b. Add Noel's amphipod in alphabetical order under “CRUSTACEANS”, to the List of Endangered and Threatened Wildlife to read as follows:

§ 17.11 Endangered and threatened wildlife.

* * * * *

(h) * * *

Species: Common name | Species: Scientific name | Historic range | Vertebrate population where endangered or threatened | Status | When listed | Critical habitat | Special rules
* * * * * * *
Snails
* * * * * * *
Snail, Pecos assiminea | Assiminea pecos | U.S.A. (NM, TX), Mexico | NA | E |  | 17.95(f) | NA
* * * * * * *
Springsnail, Koster's | Juturnia kosteri | U.S.A. (NM) | NA | E |  | 17.95(f) | NA
Springsnail, Roswell | Pyrgulopsis roswellensis | U.S.A. (NM) | NA | E |  | 17.95(f) | NA
* * * * * * *
Crustaceans
* * * * * * *
Amphipod, Noel's | Gammarus desperaturs | U.S.A. (NM) | NA | E |  | 17.95(h) | NA
* * * * * * *

3. Amend § 17.95 as follows:

a. In paragraph (f), add critical habitat for Pecos assiminea, Koster's springsnail, and Roswell springsnail; and

b. In paragraph (h), add critical habitat for Noel's amphipod, in the same alphabetical order as these species occur in § 17.11(h).

§ 17.95 Critical habitat—fish and wildlife.

* * * * *

(f) Clams and snails.

* * * * *

Pecos assiminea (Assiminea pecos)

1. A portion of the critical habitat for the Pecos assiminea is located in paragraph (f) of this section within the text for the Koster's springsnail. These species occur together, and critical habitat and the primary constituent elements are identical for these snails. In addition, critical habitat is depicted for the Pecos assiminea in:

(i) Pecos County, TX, including the Diamond Y Springs complex, located at longitude −102.923461 and latitude 30.999271, and approximately 6.8 km (4.2 mi) of the spring outflow ending at about 0.8 km (0.5 mi) downstream of the State Highway 18 bridge crossing (approximately longitude −102.885137 and latitude 31.041405). Also included is approximately 0.8 km (0.5 mi) of Leon Creek upstream of the confluence with Diamond Y Draw. All surrounding riparian vegetation and mesic soil environments within the spring, outflow, and portion of Leon Creek are also proposed for designation as these areas are considered habitat for the Pecos assiminea. Legal description (geographic projection, North American Datum 83): Longitude (decimal degrees), Latitude (decimal degrees):

−102.905319869746634, 31.022089444891570; −102.887036917654868, 31.043947412173729; −102.884194716234887, 31.042760908977833; 102.885135806784476, 31.040116604685526; −102.886447071974004, 31.038190792077721; −102.886620885824385, 31.037813677269160; 102.890251036381329, 31.035783323856453; −102.892481680821120, 31.034679908957198; −102.893548121939546, 31.033842414359302; −102.893785401930572, 31.033086360646934; −102.893745950415067, 31.032373282069056; −102.894097678233564, 31.031429114358268; −102.895544792411911, 31.030835296062797; −102.896058768051944, 31.030036256911551; −102.898010410716566, 31.029070675153459; −102.898781252646117, 31.029130733495535; −102.899944293890798, 31.028912200684612; −102.900716178554276, 31.028924768711160; −102.901441262661692, 31.028556604651808; −102.901948928625941, 31.028042412007075; −102.901688880906221, 31.027325744767865; −102.901714918210303, 31.026138774702297; −102.901732622700223, 31.025331634924694; −102.901817954640350, 31.023955646131167; −102.902125889274174, 31.022488286611136; −102.902640803335373, 31.021641737279424; −102.903610272253857, 31.020185129479138; −102.903508335417825, 31.019803505987209; −102.904231258688768, 31.019530280313123; −102.905008267695379, 31.019305424852949; −102.905627160458280, 31.018745526192433; −102.905862223627835, 31.018084401107885; −102.907438011441329, 31.016637604571564; −102.908402165790250, 31.015418349965021; −102.909312205831228, 31.014150714293240; −102.909665778900688, 31.013111534294385; −102.910342839052220, 31.012410065631975; −102.911174902560035, 31.012186062876218; −102.912113070098556, 31.012153756020012; −102.912844195573911, 31.011500644598044; −102.913370338091369, 31.010131773029197; −102.914161736135028, 31.009242148253836; −102.915610463748450, 31.008553125409257; −102.917106029547554, 31.008244810453860; −102.918875138268959, 31.008035883431738; −102.919664405186026, 31.007241180720893; −102.920460878479304, 31.006114116159939; −102.920933820519480, 31.004649359449264; −102.921603523207537, 31.004280181687651; −102.921961044126064, 31.003051041389284; −102.922105288280434, 31.001485991578242; −102.923062919493049, 31.000551488397821; −102.924338893382782, 31.000192054013731; −102.925434072210962, 31.000542142822137; −102.925748330937964, 31.001307135185360; −102.925543882342382, 31.003108703491051; −102.924514657475115, 31.004802011677008; −102.923332386691257, 31.005922892971402; −102.922655466250575, 31.006624436236699; −102.921313967399342, 31.007457756682811; −102.921298502243019, 31.008169949149053; −102.921890429628803, 31.008844431891216; −102.922088249987723, 31.009892533060658; −102.920305700167233, 31.010718735844538; −102.918990962464960, 31.010317563552466; −102.917661775715189, 31.010581089582509; −102.915939472406691, 31.011170723093645; −102.915640066348502, 31.012258293740160; −102.915233503111892, 31.013201643466406; −102.914004171668253, 31.013941704157816; −102.912955733451284, 31.013972240169043; −102.912389969275623, 31.014628028040637; −102.912099833183859, 31.015288275173923; −102.912212159226485, 31.015195101507882; −102.910513768505638, 31.017209923999967; −102.908484529126227, 31.019219357013320; −102.906961764318297, 31.020762017382609; −102.906510334381181, 31.021229648922475; −102.906323124324715, 31.022224022537589; −102.905476410341578, 31.023112694758801; −102.904572468616138, 31.024095422710321; −102.904098125726293, 31.025607579972412; −102.904512146691772, 31.026849198511329; −102.904475741511831, 31.028510959127807; −102.903447935740203, 31.030109108839046; −102.901831302956197, 31.030890242225727; −102.900225068829968, 31.031196566903024; −102.897834397853146, 31.032060033587637; −102.896823149655987, 31.032898465556570; −102.895449713462554, 31.035155846795476; −102.894484140543042, 31.036422464608236; −102.892135869908444, 31.037856459486278; −102.890355694384951, 31.038539777638526; −102.889015567482971, 31.039277771567470; −102.888427464446750, 31.040930483816535; −102.887036917654868, 31.043947412173729.

(ii) Reeves County, TX, at the East Sandia Spring complex. East Sandia Spring is located at longitude −103.728918, latitude 30.991012. The designation includes the springhead itself, surrounding seeps, and all submergent vegetation and moist soil habitat found at the margins of these areas. These areas are considered habitat for the Pecos assiminea. Legal description (geographic projection, North American Datum 83): Longitude (decimal degrees), Latitude (decimal degrees):

−103.729296238487009, 30.990656960487129; −103.731179077171333, 30.989695620405591; −103.730160658036496, 30.991850361242875; −103.727182653076312, 30.992477028891606; −103.729159475230986, 30.988608062418542; −103.731179077171333, 30.989695620405591.

(iii) [Reserved for maps.]

(2) The primary constituent elements of critical habitat for Pecos assiminea are found in paragraph (f) of this section within the text for Koster's springsnail. In addition, Pecos assiminea requires moist soil at stream or spring run margins with hydrophytic vegetation such as salt grass or sedges.

* * * * *

Koster's springsnail (Juturnia kosteri)

1. Critical habitat is depicted for the Koster's springsnail in Chaves County, NM, and includes areas within the Bitter Lake National Wildlife Refuge (Sago Springs; Bitter Creek; the adjacent gypsum sinkholes; portions of impoundments 3, 5, 6, 7, and 15; and Hunter Marsh). The designation includes all springs, seeps, sinkholes, and outflows surrounding Bitter Creek, Refuge impoundments, and the Sago Springs complex. Legal description (geographic projection, North American Datum 83):

(i) Northern section, Longitude (decimal degrees), Latitude (decimal degrees):

−104.419336674151936, 33.480203681366007; −04.414762751950349, 33.493436689238095; −104.413741244431790, 33.493858608357627; −104.413235764174928, 33.493287218778512; −104.413241520912933, 33.492433750334044; −104.416057124033827, 33.477653104239650; −104.413198374410456, 33.473656611934771; −104.412039061275550, 33.469383625617866; −104.413065082074766, 33.468250489397242; −104.426263172009314, 33.474429023268044; −104.427054732772433, 33.483109918607781; −104.414762751950349, 33.493436689238095.

(ii) Southern section, Longitude (decimal degrees), Latitude (decimal degrees):

−104.407815889404233, 33.439996838454036; −104.409173042255944, 33.466525002302781; −104.408145058265191, 33.467942596606910; −104.405096865849373, 33.466932257051440; −104.401378674109566, 33.464638361172135; −104.398868290382183, 33.459505219451806; −104.398411239598261, 33.451963754012681; −104.402906045391788, 33.439894210503255; −104.406341045861339, 33.433793930997410; −104.414701913408763, 33.426721133987094; −104.414714323491111, 33.424871931927768; −104.415228007298339, 33.424163100410929; −104.414770632086643, 33.416479392467984; −104.411547814481665, 33.416464147038482; −104.411687860032401, 33.414562203832219; −104.413726146639021, 33.414145099835672; −104.414498731965509, 33.412761800276868; −104.419587179207483, 33.412785710373186; −104.419816772583573, 33.416520876242608; −104.418406720890829, 33.418114597973172; −104.417627026091026, 33.420564769753462; −104.418122394589631, 33.422594170420631; −104.418493402187309, 33.424196232957904; −104.418992363923280, 33.425692205299626; −104.418728660053802, 33.427077915542149; −104.415788743879105, 33.429091176930797; −104.413227534105900, 33.431532911399167; −104.411304551549236, 33.433657558361652; −104.407946281311240, 33.441003035157820; −104.402389579193624, 33.453352149735451; −104.403497024026549, 33.458905233151292; −104.403742086416045, 33.460293348887326; −104.404494096955176, 33.462003962340610; −104.404482425097086, 33.463710904744133; −104.407020866535930, 33.464789946839218; −104.409173042255944, 33.466525002302781.

(2) [Reserved for map.]

(3) Within these areas, the primary constituent elements include permanent, flowing, unpolluted fresh to moderately saline water; slow to moderate velocities of water over substrates (a surface on which a plant or animal grows or is attached) ranging from deep organic silts to limestone cobble and gypsum substrates; presence of algae, submergent vegetation, and detritus in the substrata; water temperatures in the approximate range of 10-20 degrees Centigrade (50-68 degrees Fahrenheit) with natural diurnal and seasonal variation slightly above and below that range.

Roswell springsnail (Pyrgulopsis roswellensis)

The critical habitat map and description for the Roswell springsnail is located in paragraph (f) of this section within the text for the Koster's springsnail. These species occur together, and critical habitat and the primary constituent elements are identical for these snails.

* * * * *

(h) Crustaceans.

* * * * *

Noel's amphipod (Gammarus desperatus)

The critical habitat map and description, including the primary constituent elements, for the Noel's amphipod is located in paragraph (f) of this section, within the text for the Koster's springsnail. These species occur together, and critical habitat and the primary constituent elements are identical for this snail and the Noel's amphipod.

* * * * *

Dated: April 26, 2005.
Craig Manson,
Assistant Secretary for Fish and Wildlife and Parks.

[FR Doc. 05-8836 Filed 5-3-05; 8:45 am]

BILLING CODE 4310-55-P